DEPARTMENT OF TRANSPORTATION

Federal Motor Carrier Safety Administration

[Docket No. FMCSA-2015-0350]

Qualification of Drivers; Exemption Applications; Vision

AGENCY: Federal Motor Carrier Safety Administration (FMCSA), DOT.

ACTION: Notice of applications for exemptions; request for comments.

SUMMARY: FMCSA announces receipt of applications from 30 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before April 15, 2016. All comments will be investigated by FMCSA. The exemptions will be issued the day after the comment period closes.

ADDRESSES: You may submit comments bearing the Federal Docket Management System (FDMS) Docket No. FMCSA-2015-0350 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 30 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Gary L. Bartels

Mr. Bartels, 60, has had a retinal detachment in his left eye since 2009. The visual acuity in his right eye is 20/30, and in his left eye, 20/100. Following an examination in 2015, his optometrist stated, “In my opinion, Gary Bartels has sufficient vision in his right eye and with both eyes but not with his left eye, and has sufficient field of vision in his right eye but not his left eye, to perform the driving tasks required to operate a commercial vehicle.” Mr. Bartels reported that he has driven tractor-trailer combinations for 35 years, accumulating 2.45 million miles. He holds a Class AM CDL from Texas. His driving record for the last 3 years shows no crashes and no convictions for moving violations in a CMV.

Christopher Benavidez

Mr. Benavidez, 54, has had amblyopia in his right eye since childhood. The visual acuity in his right eye is 20/100, and in his left eye, 20/20. Following an examination in 2015, his optometrist stated, “In my medical opinion he has more than sufficient vision to perform the driving tasks required to operate a commercial vehicle.” Mr. Benavidez reported that he has driven straight trucks for 25 years, accumulating 350,000 miles and tractor-trailer combinations for 15 years, accumulating 150,000 miles. He holds a Class A CDL from New Mexico. His driving record for the last 3 years shows no crashes and no convictions for moving violations in a CMV.

William H. Brence

Mr. Brence, 47, has had amblyopia in his left eye since childhood. The visual acuity in his right eye is 20/20, and in his left eye, 20/50. Following an examination in 2015, his optometrist stated, “It is my opinion that Mr. Brence has sufficient visual acuity, color vision, and field of vision to perform the driving tasks required to operate any vehicle safely, but specifically to operate a commercial vehicle safely.” Mr. Brence reported that he has driven tractor-trailer combinations for 15 years, accumulating 1.95 million miles. He holds a Class A CDL from South Dakota. His driving record for the last 3 years shows no crashes and no convictions for moving violations in a CMV.

Dean B. Carrick

Mr. Carrick, 72, has had ptisis bulbi in his left eye since childhood. The visual acuity in his right eye is 20/20, and in his left eye, no light perception. Following an examination in 2015, his optometrist stated, “He has been monocular his entire adult life and has sufficient vision to perform driving tasks required for commercial vehicles.” Mr. Carrick reported that he has driven straight trucks for 53 years, accumulating 132,500 miles and tractor-trailer combinations for 45 years, accumulating 1.6 million miles. He holds a Class CA CDL from Michigan. His driving record for the last 3 years shows no crashes and no convictions for moving violations in a CMV.

Jaime V. Cavazos

Mr. Cavazos, 43, has had a prosthetic left eye since 2008. The visual acuity in his right eye is 20/20, and in his left eye, no light perception. Following an examination in 2015, his ophthalmologist stated, “In my medical opinion, Mr. Jaime Valdez has sufficient vision to perform the driving tasks to operate a commercial vehicle.” Mr. Cavazos reported that he has driven tractor-trailer combinations for 21 years, accumulating 1.34 million miles. He holds a Class A CDL from Texas. His driving record for the last 3 years shows no crashes and no convictions for moving violations in a CMV.

Jacob Dehoyos

Mr. Dehoyos, 35, has had traumatic glaucoma in his right eye since 1995. The visual acuity in his right eye is 20/50, and in his left eye, 20/20. Following an examination in 2015, his optometrist stated, “I certify that he has sufficient vision to perform driving tasks required to operate a commercial vehicle.” Mr. Dehoyos reported that he has driven straight trucks for 5 years, accumulating 273,500 miles. He holds a Class D operator's license from New Mexico. His driving record for the last 3 years shows no crashes and no convictions for moving violations in a CMV.

Larry D. Fulk

Mr. Fulk, 46, has had a choroidal melanoma in his right eye since 2012. The visual acuity in his right eye is 20/70, and in his left eye, 20/15. Following an examination in 2015, his ophthalmologist stated, “In my medical opinion, Mr. Fulk certainly has sufficient vision to perform the driving tasks required to operate a commercial vehicle.” Mr. Fulk reported that he has driven straight trucks for 30 years, accumulating 30,000 miles and tractor-trailer combinations for 23 years, accumulating 575,000 miles. He holds a Class A CDL from Missouri. His driving record for the last 3 years shows no crashes and no convictions for moving violations in a CMV.

Hugo A. Galvis Barrera

Mr. Galvis Barrera, 40, has had amblyopia in his left eye since birth. The visual acuity in his right eye is 20/20, and in his left eye, 20/60. Following an examination in 2015, his optometrist stated, “The above patient's driver's visual condition is not likely to interfere with the ability to safely operate a commercial motor vehicle and is likely to remain stable for the next two years.” Mr. Galvis Barrera reported that he has driven tractor-trailer combinations for 4 years, accumulating 384,000 miles. He holds a Class A CDL from Georgia. His driving record for the last 3 years shows no crashes and one conviction for a moving violation in a CMV; he exceeded the speed limit.

Harold J. Gilbert

Mr. Gilbert, 46, has been blind due to trauma in his right eye since 1975. The visual acuity in his right eye is hand motion, and in his left eye, 20/20. Following an examination in 2015, his optometrist stated, “I certify in my medical opinion in reference to ocular function, Harold Gilbert, has sufficient vision to perform driving tasks required to operate a commercial vehicle.” Mr. Gilbert reported that he has driven straight trucks for 15 years, accumulating 300,000 miles. He holds a Class A CDL from Colorado. His driving record for the last 3 years shows no crashes and no convictions for moving violations in a CMV.

Darrell K. Harber

Mr. Harber, 46, has had a macular scar in his right eye due to a traumatic incident in 1986. The visual acuity in his right eye is hand motion, and in his left eye, 20/25. Following an examination in 2015, his optometrist stated, “This certifies that, in my medical opinion, the above named individual has sufficient vision to perform the driving tasks required to operate a commercial vehicle.” Mr. Harber reported that he has driven straight trucks for 5 years, accumulating 325,000 miles and tractor-trailer combinations for 5 years, accumulating 6,500. He holds a Class A CDL from Missouri. His driving record for the last 3 years shows no crashes and no convictions for moving violations in a CMV.

Clair G. High

Mr. High, 63, has been pseudophakic in his left eye since 1984. The visual acuity in his right eye is 20/20, and in his left eye, 20/200. Following an examination in 2015, his optometrist stated, “My medical opinion certifies that clair [sic] has sufficient vision to perfomr [sic] driving task [sic] required to operate a commercial vehicle [sic]” Mr. High reported that he has driven straight trucks for 21 years, accumulating 420,000 miles. He holds an operator's license from Pennsylvania. His driving record for the last 3 years shows no crashes and no convictions for moving violations in a CMV.

Robert E. Holbrook

Mr. Holbrook, 45, has had amblyopia in his left eye since childhood. The visual acuity in his right eye is 20/25, and in his left eye, 20/200. Following an examination in 2015, his optometrist stated, “In my professional medical opinion, Mr. Robert E. Holbrook has sufficient vision to safely perform the driving tasks necessary to operate a commercial vehicle.” Mr. Holbrook reported that he has driven straight trucks for 1 year, accumulating 4,999 miles, and tractor-trailer combinations for 4 years, accumulating 80,000 miles. He holds a Class AM CDL from Tennessee. His driving record for the last 3 years shows no crashes and no convictions for moving violations in a CMV.

Lowell E. Jackson

Mr. Jackson, 66, has temporal hemianopia in his left eye due to a traumatic incident in 1986. The visual acuity in his right eye is 20/20, and in his left eye, hand motion. Following an examination in 2015, his optometrist stated, “I believe Lowell Jackson's safety record for the past 29 years since that accident should allow him to continue driving as a commercial driver.” Mr. Jackson reported that he has driven straight trucks for 5 years, accumulating 250,000 miles, tractor-trailer combinations for 40 years, accumulating 4 million miles. He holds a Class A CDL from Missouri. His driving record for the last 3 years shows no crashes and no convictions for moving violations in a CMV.

Maurice L. Kinney

Mr. Kinney, 52, has been blind due to trauma in his left eye since age five. The visual acuity in his right eye is 20/20, and in his left eye, counting fingers. Following an examination in 2015, his optometrist stated, “Mr. Kinney entered with unaided visual acuity of 20/20 in his right eye . . . having tested Mr. Kinney and interpreting the results, I find no reason to prohibit him from meeting the criteria to retain his commercial drivers [sic] license.” Mr. Kinney reported that he has driven straight trucks for 11 years, accumulating 343,200 miles. He holds a Class B CDL from New York. His driving record for the last 3 years shows no crashes and two convictions for moving violations in a CMV; in one he disobeyed the traffic control device and in the other he made an improper turn.

Richard R. Krafczynski, Jr.

Mr. Krafczynski, Jr., 53, has had amblyopia in his left eye since birth. The visual acuity in his right eye is 20/20, and in his left eye, 20/70. Following an examination in 2015, his optometrist stated, “It is my opinion that he has sufficient vision to perform driving tasks required to operate a commercial vehicle.” Mr. Krafczynski reported that he has driven straight trucks for 2 years, accumulating 80,000 miles and buses for 32 years, accumulating 1.28 million miles. He holds a Class AM CDL from Pennsylvania. His driving record for the last 3 years shows no crashes and no convictions for moving violations in a CMV.

Michael S. McHale

Mr. McHale, 48, had a retinal detachment in his left eye during childhood. The visual acuity in his right eye is 20/20, and in his left eye, light perception. Following an examination in 2015, his optometrist stated, “px [sic] meets federal standards for peripheral vision as required by CDL.” Mr. McHale reported that he has driven straight trucks for 20 years, accumulating 1.8 million miles. He holds a Class BM CDL from Pennsylvania. His driving record for the last 3 years shows no crashes and no convictions for moving violations in a CMV.

Darin P. Milton

Mr. Milton, 49, has had a prosthetic right eye due to a traumatic incident in 1990. The visual acuity in his right eye is no light perception, and in his left eye, 20/15. Following an examination in 2015, his optometrist stated, “I have followed Mr. Milton for the past eleven years and feel his 20/20 visual acuity, large visual field, and accurate color vision render him capable of driving a commercial vehicle.” Mr. Milton reported that he has driven straight trucks for 11 years, accumulating 396,000 miles and tractor-trailer combinations for 17 years, accumulating 591,600 miles. He holds a Class A CDL license from Tennessee. His driving record for the last 3 years shows no crashes and no convictions for moving violations in a CMV.

Myron Morehouse

Mr. Morehouse, 51, has had amblyopia in his left eye since childhood. The visual acuity in his right eye is 20/20, and in his left eye, 20/200. Following an examination in 2015, his optometrist stated, “I believe he can see well enough to safely operate a commercial vehicle.” Mr. Morehouse reported that he has driven straight trucks for 21 years, accumulating 210,000 miles and tractor-trailer combinations for 28 years, accumulating 140,000 miles. He holds a Class A CDL from Minnesota. His driving record for the last 3 years shows no crashes and no convictions for moving violations in a CMV.

Dakota J. Papsun

Mr. Papsun, 24, has had a prosthetic left eye since 2012. The visual acuity in his right eye is 20/20, and in his left eye, no light perception. Following an examination in 2015, his optometrist stated, “Monocular patients are able to operate commercial vehicles . . . Therefore, I do not feel that there are any other ocular-related reasons that would make it difficult to preform [sic] the necessary tasks.” Mr. Papsun reported that he has driven straight trucks for 8 years, accumulating 41,600 miles. He holds a Class C operator's license from Pennsylvania. His driving record for the last 3 years shows no crashes and no convictions for moving violations in a CMV.

Raffaelo Petrillo

Mr. Petrillo, 49, has refractive amblyopia in his left eye since childhood. The visual acuity in his right eye is 20/30, and in his left eye, 20/200. Following an examination in 2015, his optometrist stated, “Mr. Petrillo's visual status is adequate to operate a commercial vehicle.” Mr. Petrillo reported that he has driven straight trucks for 30 years, accumulating 72,000 miles, and tractor-trailer combinations for 24 years, accumulating 240,000 miles. He holds a Class A CDL from New Jersey. His driving record for the last 3 years shows no crashes and no convictions for moving violations in a CMV.

William J. Powell

Mr. Powell, 60, has had amblyopia in his right eye since childhood. The visual acuity in his right eye is 20/100, and in his left eye, 20/20. Following an examination in 2015, his optometrist stated, “In my opinion, William has adequate vision to perform the tasks required to safely operate a commercial vehicle.” Mr. Powell reported that he has driven straight trucks for 33 years, accumulating 369,402 miles. He holds a Class DB CDL license from Kentucky. His driving record for the last 3 years shows no crashes and no convictions for moving violations in a CMV.

Cory R. Rand

Mr. Rand, 46, has had amblyopia in his left eye since childhood. The visual acuity in his right eye is 20/20, and in his left eye, 20/200. Following an examination in 2015, his optometrist stated, “I, Doctor Koray Arin, certify that Mr Cory R [sic] Rand has sufficient vision to perform the driving tasks required to operate a commercial vehicle.” Mr. Rand reported that he has driven straight trucks for 16 years, accumulating 480,000 miles. He holds a Class C CDL from New Hampshire. His driving record for the last 3 years shows no crashes and no convictions for moving violations in a CMV.

Bobby W. Sanders

Mr. Sanders, 55, has had corneal scarring in his right eye since 2004. The visual acuity in his right eye is counting fingers, and in his left eye, 20/20. Following an examination in 2015, his ophthalmologist stated, “In my medical opinion [sic] Bobby Sanders has sufficient vision to continue to perform the driving tasks required to operate a commercial vehicle.” Mr. Sanders reported that he has driven straight trucks for 10 years, accumulating 5,000 miles. He holds a Class D operator's license from Tennessee. His driving record for the last 3 years shows no crashes and no convictions for moving violations in a CMV.

Logan D. Shaffer

Mr. Shaffer, 34, has had anisometropic amblyopia in his left eye since birth. The visual acuity in his right eye is 20/20, and in his left eye, 20/200. Following an examination in 2015, his optometrist stated, “In my medical opinion, patient has sufficient vision to perform driving tasks associated with driving a commercial vehicle.” Mr. Shaffer reported that he has driven straight trucks for 11 years, accumulating 935,000 miles. He holds a Class D operator's license from South Carolina. His driving record for the last 3 years shows no crashes and no convictions for moving violations in a CMV.

Laurence W. Sellers

Mr. Sellers, 54, has had refractive amblyopia in his right eye since childhood. The visual acuity in his right eye is hand motion, and in his left eye, 20/20. Following an examination in 2015, his optometrist stated, “He has stated to me that he has been driving commercial vehicles with no problems for the past 20 years. I see no reason that he should not be able to continue to do so as a result of his vision.” Mr. Sellers reported that he has driven straight trucks for 22 years, accumulating 200,200 miles. He holds a Class DM operator's license from Alabama. His driving record for the last 3 years shows no crashes and no convictions for moving violations in a CMV.

Johnny T. Solorio

Mr. Solorio, 47, is blind in his left eye due to a traumatic incident in childhood. The visual acuity in his right eye is 20/20, and in his left eye, no light perception. Following an examination in 2015, his optometrist stated, “It is my professional opinion that Mr. Solorio has sufficient vision to perform the tasks required to operate a commercial vehicle.” Mr. Solorio reported that he has driven straight trucks for 9 years, accumulating 900,000 miles and tractor-trailer combinations for 9 years, accumulating 900,000 miles. He holds a Class AM1 CDL from California. His driving record for the last 3 years shows no crashes and no convictions for moving violations in a CMV.

Richard R. Vonderohe

Mr. Vonderohe, 52, has had amblyopia in his left eye since childhood. The visual acuity in his right eye is 20/40, and in his left eye, 20/150. Following an examination in 2015, his optometrist stated, “With correction, I believe Richard has sufficient has vision to operate a commercial vehicle.” Mr. Vonderohe reported that he has driven straight trucks for 31 years, accumulating 496,000. He holds a Class A CDL from Iowa. His driving record for the last 3 years shows no crashes and no convictions for moving violations in a CMV.

William J. Watts

Mr. Watts, 56, had a retinal detachment in his left in 1970. The visual acuity in his right eye is 20/20, and in his left eye, 20/70. Following an examination in 2015, his optometrist stated, “In my medical opinion, Mr. Watts has sufficient vision to perform the driving tasks required to operate a commercial vehicle.” Mr. Watts reported that he has driven straight trucks for 6 years, accumulating 60,000 miles, tractor-trailer combinations for 37 years, accumulating 4.44 million miles. He holds a Class A CDL from Montana. His driving record for the last 3 years shows no crashes and no convictions for moving violations in a CMV.

Russell Zelich

Mr. Zelich, 49, has a central retinal scar in his right eye due to a traumatic incident in 1980. The visual acuity in his right eye is count fingers, and in his left eye, 20/20. Following an examination in 2015, his optometrist stated, “Due to central retinal scarring his right eye is reduced to finger counting while the left eye uncorrected acuity is 20/25 correctable to 20/20 . . . He has had a commercial driving license for nearly 3 decades without a chargeable accident . . . In my opinion special allowances should me [sic] made in his case.” Mr. Zelich reported that he has driven straight trucks for 24 years, accumulating 360,000 miles. He holds a Class B CDL from Pennsylvania. His driving record for the last 3 years shows no crashes and no convictions for moving violations in a CMV.

Frederick A. Zoeller, Jr.

Mr. Zoeller, 53, has had refractive amblyopia in his right eye since childhood. The visual acuity in his right eye is 20/400, and in his left eye, 20/20. Following an examination in 2015, his optometrist stated, “He is visually capable of performing the tasks required to operate a commercial vehicle.” Mr. Zoeller reported that he has driven straight trucks for 37 years, accumulating 231,250 miles. He holds a Class MC operator's license from New Hampshire. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2015-0350 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period. FMCSA may issue a final determination at any time after the close of the comment period.

Viewing Comments and Documents

To view comments, as well as documents mentioned in this preamble, go to http://www.regulations.gov and insert the docket number FMCSA-2015-0350 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: March 10, 2016.
Larry W. Minor,
Associate Administrator for Policy.

[FR Doc. 2016-05903 Filed 3-15-16; 8:45 am]

BILLING CODE 4910-EX-P